DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 10/28/2010 through 11/10/2010
Firm name | Address | Date accepted for investigation | Products
Aermotor Company | 4277 Dan Hanks Lane, San Angelo, TX 76902 | 10/29/2010 | The firm manufactures of windmills and the related pumps and mounting towers.
A-Z Acquisition Corporation d/b/a A-Z Mfg and Sales Co, Inc | 10405 E. 11th St., Independence, MO 64052 | 11/1/2010 | The firm produces custom metal fabrication.
Colonial Circuits, Inc | 1026 Warrenton Road, Fredericksburg, VA 22406 | 11/4/2010 | The firm produces printed circuit boards for high reliability applications; primarily military, space and flight.
Delta Engineered Plastics, LLC | 1350 Harmon Road, Auburn Hills, MI 48326 | 11/2/2010 | The firm produces plastic injection molded truck and automotive vehicle parts.
Howe Corporation | 1650 North Elston Avenue, Chicago, IL 60642 | 11/8/2010 | The firm designs and manufactures industrial and commercial refrigeration equipment such as flake ice machines, ice storage bins, multi-cylinder compressors, pump out compressors pressure vessels and heat exchangers.
Insight Lighting, Inc | 4341 Fulcrum Way, Rio Rancho, NM 87144 | 11/3/2010 | The firm fabricates raw materials such as extruded aluminum and sheet steel into subassemblies, powder coated and assembled with purchased components into finished lighting fixtures.
Lafayette Venetian Blind, Inc | 3000 Klondike Road, West Lafayette, IN 47996 | 11/1/2010 | The firm produces custom window coverings and top of the bed products along with other fabric accessories such as draperies, pillows, head boards and benches.
Lake Country Woodworkers Ltd | PO Box 400, 12 Clark St., Naples, NY 14512 | 10/28/2010 | The Company produces hardwood furniture for office and bathrooms including conference tables, occasional tables, reception stations, vanities and credenzas.
Miller Welding and Machine Company | 111 2nd Street, Brookville, PA 15825 | 11/8/2010 | The firm engages in many different types of sheet metal work—as specified by the customer—such as mechanical assembly, painting and finishing, machining, welding, fabricating, punching and precision bending.
Pantheon Guitars, LLC | 2 Cedar Street, Lewiston, ME 04240 | 11/3/2010 | The firm manufactures wood acoustic guitars ranging from small parlor guitars to larger Dreadnoughts. Materials used in the manufacturing process include mahogany, Brazillian and Madagascar rosewoods, adirondacks and sitka sprucewoods. Miscellaneous mat
Raven Industries, Inc | 205 E. 6th Street, Sioux Falls, SD 57117 | 11/3/2010 | The firm produces electronic contract manufacturing services of commercial and industrial circuit card and system assemblies.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: November 10, 2010.
Miriam Kearse,
Eligibility Certifier.

[FR Doc. 2010-29084 Filed 11-17-10; 8:45 am]

BILLING CODE 3510-24-P